DEPARTMENT OF LABOR

Employment and Training Administration

[TA-W-83,321]

LATA Environmental Services of Kentucky, LLC, a Wholly Owned Subsidiary of Los Alamos Technical Associates, Inc., Kevil, Kentucky; Notice of Revised Determination on Reconsideration

On January 24, 2014, the Department of Labor issued a Notice of Negative Determination Regarding Eligibility to Apply for Worker Adjustment Assistance applicable to workers and former workers of LATA Environmental Services of Kentucky, LLC, a wholly owned subsidiary of Los Alamos Technical Associates, Inc., Kevil, Kentucky (subject firm). The Department's Notice was published in the Federal Register on February 12, 2014 (79 FR 8508). Workers at the subject firm were engaged in employment related to the supply of environmental remediation services. The worker group does not include on-site leased workers.

In an application dated March 11, 2014, the United Steel, paper and Forestry, Rubber, Manufacturing, Energy, Allied-Industrial and Service Workers International Union requested administrative reconsideration of the negative determination applicable to workers and former workers of the subject firm. The request for reconsideration alleges that workers at the subject firm are eligible to apply for Trade Adjustment Assistance (TAA) under Section 222(b) of the Trade Act, 19 U.S.C. 2272(b).

Previously-submitted information revealed that a significant number or proportion of the workers in the subject firm have been totally or partially separated or threatened by such separation. Therefore, the Department determines that Section 222(b)(1) has been met.

A careful review of administrative record, the request for reconsideration, and publically-available information confirmed that the subject is a Supplier, as defined by Section 222(c) of the Trade Act, to a firm that employed a worker group eligible to apply for TAA under Section 222(a) of the Act, and that the supply of services is related to the production of the article that was the basis of the primary certification. Therefore, the Department determines that Section 222(b)(2) has been met.

Conclusion

After careful review, I determine that workers and former workers of the subject firm, who are engaged in employment related to the supply of environmental remediation services, meet the worker group certification criteria under Section 222(b) of the Act, 19 U.S.C. 2272(b). In accordance with Section 223 of the Act, 19 U.S.C. 2273, I make the following certification:

All workers of LATA Environmental Services of Kentucky, LLC, a wholly owned subsidiary of Los Alamos Technical Associates, Inc., Kevil, Kentucky, who became totally or partially separated from employment on or after December 20, 2012, through two years from the date of this revised certification, and all workers in the group threatened with total or partial separation from employment on date of certification through two years from the date of certification, are eligible to apply for adjustment assistance under Chapter 2 of Title II of the Trade Act of 1974, as amended.

Signed in Washington, DC, this 11th day of June 2014.
Del Min Amy Chen,
Certifying Officer, Office of Trade Adjustment Assistance.

[FR Doc. 2014-15189 Filed 6-27-14; 8:45 am]

BILLING CODE 4510-FN-P